DEPARTMENT OF TRANSPORTATION

National Highway Traffic Safety Administration

49 CFR Part 541

[Docket No. NHTSA-2014-0082]

Final Theft Data; Motor Vehicle Theft Prevention Standard

AGENCY: National Highway Traffic Safety Administration (NHTSA), Department of Transportation.

ACTION: Publication of 2012 final theft data.

SUMMARY: This document publishes the final data on thefts of model year (MY) 2012 passenger motor vehicles that occurred in calendar year (CY) 2012. The final 2012 theft data indicated an increase in the vehicle theft rate experienced in CY/MY 2012. The final theft rate for MY 2012 passenger vehicles stolen in calendar year 2012 is 1.1294 thefts per thousand vehicles, an increase of 14.21 percent from the rate of 0.9889 thefts per thousand in 2011. Publication of these data fulfills NHTSA's statutory obligation to periodically obtain accurate and timely theft data and publish the information for review and comment.

DATES: Effective date: November 25, 2014.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR Part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2012, the most recent calendar year for which data are available.

In calculating the 2012 theft rates, NHTSA followed the same procedures it used in calculating the MY 2011 theft rates. (For 2011 theft data calculations, see 79 FR 7090.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2012 theft rate for each vehicle line was calculated by dividing the number of reported thefts of MY 2012 vehicles of that line stolen during calendar year 2012 by the total number of vehicles in that line manufactured for MY 2012, as reported to the Environmental Protection Agency (EPA).

The final 2012 theft data show a slight increase in the vehicle theft rate when compared to the theft rate experienced in CY/MY 2011. The final theft rate for MY 2012 passenger vehicles stolen in calendar year 2012 increased to 1.1294 thefts per thousand vehicles produced, an increase of 14.21 percent from the rate of 0.9889 thefts per thousand vehicles experienced by MY 2011 vehicles in CY 2011. A similar increasing trend in vehicle thefts was reported in the Federal Bureau of Investigation's (FBI) 2012 Uniform Crime Report showing a 0.6% increase in motor vehicle thefts (automobiles, trucks, buses and other vehicles) from 2011 to 2012. Historically, the data has shown an overall decreasing trend in theft rates since CY 1993, with periods of increase from one year to the next. The agency welcomed public comment on the cause for the slight increase, but none were received.

For MY 2012 vehicles, out of a total of 211 vehicle lines, nine lines had a theft rate higher than 3.5826 per thousand vehicles, the established median theft rate for MYs 1990/1991. (See 59 FR 12400, March 16, 1994). Of the nine vehicle lines with a theft rate higher than 3.5826, eight are passenger car lines, one is a multipurpose passenger vehicle line, and none are light-duty truck lines.

On Tuesday, August 5, 2014, NHTSA published the preliminary theft rates for CY 2012 passenger motor vehicles in the Federal Register (79 FR 45412). The agency tentatively ranked each of the MY 2012 vehicle lines in descending order of theft rate. The public was requested to comment on the accuracy of the data and to provide final production figures for individual vehicle lines. The agency did not receive any comments from the public that would make adjustments to its data. As a result, the final theft rates and rankings of vehicle lines did not change from those published in the August 2014 notice.

Subsequent to the August 5, 2014, publication of preliminary theft data, BYD Motors, Inc. (BYD) submitted its EPA production data for the e6 vehicle line. NHTSA has corrected the final theft data to include an entry for the BYD e6 vehicle line. As a result of this correction, the final theft list has been revised accordingly. The BYD e6, previously omitted, is ranked No. 211 with a theft rate of 0.0000.

The following list represents NHTSA's final calculation of theft rates for all 2012 passenger motor vehicle lines. This list is intended to inform the public of calendar year 2012 motor vehicle thefts of model year 2012 vehicles and does not have any effect on the obligations of regulated parties under 49 U.S.C. Chapter 331, Theft Prevention.

Final Report of Theft Rates for Model Year 2012 Passenger Motor Vehicles Stolen in Calendar Year 2012
Manufacturer | Make/model (line) | Thefts 2012 | Production (Mfr's) 2012 | 2012 Theft rate (per 1,000 vehicles produced)
1 MERCEDES-BENZ | CL-CLASS | 17 | 827 | 20.5562
2 MITSUBISHI | ECLIPSE | 34 | 6,186 | 5.4963
3 MAZDA | 6 | 202 | 40,004 | 5.0495
4 CHRYSLER | DODGE CHARGER | 316 | 66,432 | 4.7567
5 NISSAN | INFINITI FX35/FX50 | 35 | 8,902 | 3.9317
6 CHRYSLER | DODGE AVENGER | 329 | 85,365 | 3.8540
7 CHRYSLER | 300 | 232 | 60,287 | 3.8483
8 GENERAL MOTORS | CHEVROLET IMPALA | 604 | 165,986 | 3.6389
9 MITSUBISHI | GALANT | 67 | 18,600 | 3.6022
10 GENERAL MOTORS | CHEVROLET CAPTIVA | 112 | 31,797 | 3.5223
11 BMW | 6 | 19 | 5,609 | 3.3874
12 CHRYSLER | DODGE CHALLENGER | 143 | 43,080 | 3.3194
13 GENERAL MOTORS | CHEVROLET CAMARO | 249 | 80,707 | 3.0852
14 TOYOTA | YARIS | 166 | 54,886 | 3.0245
15 NISSAN | PATHFINDER | 47 | 15,765 | 2.9813
16 CHRYSLER | 200 | 352 | 121,175 | 2.9049
17 MERCEDES-BENZ | S-CLASS | 29 | 11,443 | 2.5343
18 NISSAN | ALTIMA | 760 | 313,956 | 2.4207
19 GENERAL MOTORS | CHEVROLET MALIBU | 509 | 225,791 | 2.2543
20 FORD MOTOR CO | MUSTANG | 178 | 80,487 | 2.2115
21 AUDI | AUDI A8 | 10 | 4,538 | 2.2036
22 VOLVO | XC90 | 3 | 1,377 | 2.1786
23 NISSAN | INFINITI M35H/M37/M56 | 28 | 13,731 | 2.0392
24 BMW | B7 | 1 | 492 | 2.0325
25 NISSAN | MAXIMA | 129 | 65,150 | 1.9800
26 MAZDA | 2 | 32 | 16,169 | 1.9791
27 PORSCHE | PANAMERA | 13 | 7,056 | 1.8424
28 NISSAN | VERSA | 272 | 149,418 | 1.8204
29 HONDA | ACURA ZDX | 2 | 1,122 | 1.7825
30 FORD MOTOR CO | TAURUS | 69 | 39,314 | 1.7551
31 MERCEDES-BENZ | GLK-CLASS | 45 | 26,554 | 1.6947
32 BMW | 7 | 23 | 13,696 | 1.6793
33 NISSAN | SENTRA | 229 | 139,585 | 1.6406
34 GENERAL MOTORS | GMC CANYON PICKUP | 22 | 13,690 | 1.6070
35 MASERATI | GRANTURISMO | 3 | 1,953 | 1.5361
36 GENERAL MOTORS | CHEVROLET CORVETTE | 17 | 11,144 | 1.5255
37 JAGUAR LAND ROVER | XK/XKR | 2 | 1,323 | 1.5117
38 NISSAN | INFINITI G25/G37 | 85 | 56,585 | 1.5022
39 KIA | FORTE | 106 | 72,284 | 1.4664
40 VOLVO | C70 | 7 | 4,787 | 1.4623
41 TOYOTA | COROLLA | 304 | 197,973 | 1.4257
42 MAZDA | CX-7 | 11 | 7,945 | 1.3845
43 CHRYSLER | DODGE CALIBER | 15 | 10,953 | 1.3695
44 JAGUAR LAND ROVER | XJ | 7 | 5,158 | 1.3571
45 KIA | RIO | 34 | 25,441 | 1.3364
46 FORD MOTOR CO | FOCUS | 413 | 318,556 | 1.2965
47 SUZUKI | SX4 | 20 | 15,617 | 1.2807
48 AUDI | AUDI A7 | 15 | 11,768 | 1.2746
49 KIA | OPTIMA | 132 | 106,747 | 1.2366
50 AUDI | AUDI A3 | 9 | 7,287 | 1.2351
51 BMW | 5 | 53 | 43,103 | 1.2296
52 FORD MOTOR CO | FUSION | 371 | 308,520 | 1.2025
53 CHRYSLER | JEEP LIBERTY | 124 | 104,184 | 1.1902
54 SUZUKI | GRAND VITARA | 8 | 6,923 | 1.1556
55 HYUNDAI | SONATA | 264 | 230,381 | 1.1459
56 TOYOTA | SCION TC | 24 | 21,188 | 1.1327
57 VOLKSWAGEN | PASSAT | 107 | 95,583 | 1.1194
58 GENERAL MOTORS | CHEVROLET CRUZE | 297 | 270,622 | 1.0975
59 MERCEDES-BENZ | C-CLASS | 84 | 76,638 | 1.0961
60 HYUNDAI | ACCENT | 80 | 73,458 | 1.0891
61 HYUNDAI | GENESIS | 41 | 37,741 | 1.0864
62 VOLVO | S80 | 4 | 3,748 | 1.0672
63 VOLVO | C30 | 3 | 2,841 | 1.0560
64 TOYOTA | CAMRY | 547 | 523,846 | 1.0442
65 GENERAL MOTORS | BUICK REGAL | 26 | 26,003 | 0.9999
66 VOLKSWAGEN | JETTA | 176 | 178,153 | 0.9879
67 TOYOTA | LEXUS LS | 8 | 8,102 | 0.9874
68 FIAT | 500 | 60 | 60,935 | 0.9847
69 HONDA | PILOT | 42 | 42,657 | 0.9846
70 BENTLEY MOTORS | CONTINENTAL | 2 | 2,060 | 0.9709
71 GENERAL MOTORS | CADILLAC CTS | 51 | 52,531 | 0.9709
72 MAZDA | 5 | 31 | 32,530 | 0.9530
73 NISSAN | QUEST VAN | 20 | 21,388 | 0.9351
74 KIA | SOUL | 94 | 100,672 | 0.9337
75 MAZDA | 3 | 129 | 142,875 | 0.9029
76 VOLKSWAGEN | CC | 26 | 29,350 | 0.8859
77 TOYOTA | AVALON | 18 | 20,938 | 0.8597
78 HONDA | ACCORD | 275 | 325,034 | 0.8461
79 FORD MOTOR CO | FIESTA | 50 | 59,978 | 0.8336
80 FORD MOTOR CO | ESCAPE | 199 | 238,713 | 0.8336
81 HYUNDAI | SANTA FE | 49 | 59,411 | 0.8248
82 GENERAL MOTORS | CHEVROLET SONIC | 69 | 83,979 | 0.8216
83 GENERAL MOTORS | BUICK LACROSSE | 50 | 60,891 | 0.8211
84 CHRYSLER | DODGE JOURNEY | 62 | 77,471 | 0.8003
85 NISSAN | 370Z | 5 | 6,271 | 0.7973
86 JAGUAR LAND ROVER | XF | 5 | 6,288 | 0.7952
87 KIA | SPORTAGE | 33 | 41,590 | 0.7935
88 VOLKSWAGEN | GTI | 14 | 18,586 | 0.7533
89 MERCEDES-BENZ | E-CLASS | 38 | 50,591 | 0.7511
90 FORD MOTOR CO | LINCOLN MKZ | 28 | 37,676 | 0.7432
91 HYUNDAI | ELANTRA | 125 | 169,256 | 0.7385
92 FORD MOTOR CO | EDGE | 56 | 75,972 | 0.7371
93 TOYOTA | VENZA | 17 | 23,128 | 0.7350
94 HONDA | CIVIC | 333 | 455,627 | 0.7309
95 FORD MOTOR CO | LINCOLN MKS | 5 | 6,890 | 0.7257
96 KIA | SEDONA VAN | 24 | 33,319 | 0.7203
97 HONDA | CR-Z | 4 | 5,609 | 0.7131
98 GENERAL MOTORS | CHEVROLET COLORADO PICKUP | 36 | 50,765 | 0.7092
99 HONDA | CROSSTOUR | 19 | 26,934 | 0.7054
100 MITSUBISHI | I-MIEV | 1 | 1,435 | 0.6969
101 CHRYSLER | JEEP COMPASS | 30 | 43,360 | 0.6919
102 AUDI | AUDI Q7 | 6 | 8,951 | 0.6703
103 BMW | 3 | 29 | 43,714 | 0.6634
104 MITSUBISHI | OUTLANDER | 14 | 21,288 | 0.6576
105 HONDA | ACURA TSX | 24 | 36,921 | 0.6500
106 MITSUBISHI | LANCER | 11 | 16,958 | 0.6487
107 HYUNDAI | VELOSTER | 20 | 30,980 | 0.6456
108 VOLVO | S60 | 22 | 34,378 | 0.6399
109 PORSCHE | 911 | 5 | 8,114 | 0.6162
110 MAZDA | CX-9 | 20 | 32,980 | 0.6064
111 TOYOTA | SCION XB | 27 | 44,722 | 0.6037
112 SUBARU | LEGACY | 23 | 39,094 | 0.5883
113 FORD MOTOR CO | LINCOLN MKX | 10 | 17,121 | 0.5841
114 HONDA | ACURA RDX | 5 | 8,786 | 0.5691
115 CHRYSLER | JEEP PATRIOT | 34 | 59,849 | 0.5681
116 KIA | SORENTO | 60 | 107,269 | 0.5593
117 JAGUAR LAND ROVER | LAND ROVER EVOQUE | 5 | 9,075 | 0.5510
118 BMW | X3 | 8 | 14,543 | 0.5501
119 NISSAN | FRONTIER PICKUP | 39 | 71,502 | 0.5454
120 VOLVO | XC70 | 3 | 5,507 | 0.5448
121 NISSAN | ROGUE | 76 | 140,561 | 0.5407
122 TOYOTA | LEXUS IS | 17 | 31,725 | 0.5359
123 VOLKSWAGEN | TIGUAN | 16 | 29,862 | 0.5358
124 SUBARU | IMPREZA | 35 | 67,058 | 0.5219
125 AUDI | AUDI S4/S5 | 4 | 7,710 | 0.5188
126 TOYOTA | HIGHLANDER | 68 | 132,822 | 0.5120
127 TOYOTA | TACOMA PICKUP | 65 | 127,812 | 0.5086
128 NISSAN | XTERRA | 11 | 22,343 | 0.4923
129 TOYOTA | SIENNA VAN | 55 | 112,906 | 0.4871
130 SUBARU | TRIBECA | 1 | 2,085 | 0.4796
131 AUDI | AUDI A4/A5 | 18 | 37,744 | 0.4769
132 HONDA | ACURA MDX | 24 | 50,568 | 0.4746
133 HYUNDAI | TUCSON | 27 | 57,218 | 0.4719
134 MAZDA | MX-5 MIATA | 3 | 6,501 | 0.4615
135 BMW | M3 | 1 | 2,170 | 0.4608
136 TOYOTA | LEXUS RX | 30 | 65,554 | 0.4576
137 BMW | 1 | 4 | 8,770 | 0.4561
138 CHRYSLER | JEEP WRANGLER | 64 | 141,387 | 0.4527
139 HONDA | ACURA TL | 24 | 53,260 | 0.4506
140 HONDA | INSIGHT | 3 | 6,723 | 0.4462
141 FORD MOTOR CO | FLEX | 9 | 20,181 | 0.4460
142 GENERAL MOTORS | GMC TERRAIN | 44 | 100,103 | 0.4395
143 SUBARU | FORESTER | 27 | 64,142 | 0.4209
144 TOYOTA | FJ CRUISER | 6 | 14,852 | 0.4040
145 MERCEDES-BENZ | SLK-CLASS | 2 | 4,953 | 0.4038
146 MERCEDES-BENZ | SMART FORTWO | 2 | 5,035 | 0.3972
147 VOLKSWAGEN | GOLF | 10 | 25,207 | 0.3967
148 NISSAN | MURANO | 23 | 58,188 | 0.3953
149 GENERAL MOTORS | CHEVROLET EQUINOX | 87 | 220,965 | 0.3937
150 VOLKSWAGEN | BEETLE | 12 | 30,622 | 0.3919
151 TOYOTA | RAV4 | 62 | 170,414 | 0.3638
152 AUDI | AUDI Q5 | 12 | 33,880 | 0.3542
153 HYUNDAI | EQUUS | 1 | 2,848 | 0.3511
154 NISSAN | JUKE | 13 | 37,933 | 0.3427
155 JAGUAR LAND ROVER | LAND ROVER LR2 | 1 | 2,921 | 0.3423
156 BMW | MINI COOPER | 24 | 70,328 | 0.3413
157 TOYOTA | LEXUS ES | 11 | 32,739 | 0.3360
158 NISSAN | CUBE | 2 | 6,021 | 0.3322
159 AUDI | AUDI A6 | 6 | 18,374 | 0.3265
160 SUZUKI | KIZASHI | 2 | 6,331 | 0.3159
161 VOLVO | XC60 | 5 | 16,144 | 0.3097
162 TOYOTA | SCION IQ | 3 | 9,744 | 0.3079
163 TOYOTA | PRIUS | 67 | 220,571 | 0.3038
164 SUBARU | OUTBACK WAGON | 29 | 97,633 | 0.2970
165 HONDA | CR-V | 68 | 230,293 | 0.2953
166 TOYOTA | LEXUS CT | 6 | 21,668 | 0.2769
167 NISSAN | INFINITI EX35 | 1 | 3,734 | 0.2678
168 GENERAL MOTORS | CADILLAC SRX | 18 | 67,705 | 0.2659
169 GENERAL MOTORS | BUICK VERANO | 8 | 32,639 | 0.2451
170 HYUNDAI | VERACRUZ | 2 | 8,560 | 0.2336
171 HONDA | FIT | 11 | 50,757 | 0.2167
172 VOLKSWAGEN | EOS | 2 | 11,140 | 0.1795
173 FORD MOTOR CO | TRANSIT CONNECT VAN | 7 | 43,125 | 0.1623
174 HYUNDAI | AZERA | 1 | 7,745 | 0.1291
175 GENERAL MOTORS | CHEVROLET VOLT | 2 | 18,355 | 0.1090
176 ASTON MARTIN | DB9 | 0 | 47 | 0.0000
177 ASTON MARTIN | DBS | 0 | 106 | 0.0000
178 ASTON MARTIN | RAPIDE | 0 | 210 | 0.0000
179 ASTON MARTIN | V12 VANTAGE | 0 | 85 | 0.0000
180 ASTON MARTIN | V8 VANTAGE | 0 | 306 | 0.0000
181 ASTON MARTIN | VIRAGE | 0 | 302 | 0.0000
182 BMW | M6 | 0 | 252 | 0.0000
183 BMW | Z4 | 0 | 2,203 | 0.0000
184 ROLLS ROYCE | GHOST | 0 | 764 | 0.0000
185 ROLLS ROYCE | PHANTOM | 0 | 53 | 0.0000
186 FERRARI | 458 | 0 | 685 | 0.0000
187 FERRARI | CALIFORNIA | 0 | 566 | 0.0000
188 FERRARI | FF | 0 | 259 | 0.0000
189 MASERATI | QUATTROPORTE | 0 | 519 | 0.0000
190 CODA AUTOMOTIVE | CODA | 0 | 115 | 0.0000
191 SAAB | 9-4X | 0 | 26 | 0.0000
192 HONDA | ACURA RL | 0 | 398 | 0.0000
193 LOTUS | EVORA | 0 | 146 | 0.0000
194 MCLAREN | MP4-12C | 0 | 697 | 0.0000
195 MERCEDES-BENZ | B-CLASS | 0 | 25 | 0.0000
196 MERCEDES-BENZ | SL-CLASS | 0 | 928 | 0.0000
197 MERCEDES-BENZ | SLS-CLASS | 0 | 1,275 | 0.0000
198 NISSAN | GT-R | 0 | 1,228 | 0.0000
199 NISSAN | LEAF | 0 | 11,460 | 0.0000
200 PORSCHE | BOXSTER | 0 | 754 | 0.0000
201 PORSCHE | CAYMAN | 0 | 1,022 | 0.0000
202 SUZUKI | EQUATOR PICKUP | 0 | 2,392 | 0.0000
203 TESLA | MODEL S | 0 | 2,952 | 0.0000
204 TOYOTA | LEXUS HS | 0 | 503 | 0.0000
205 AUDI | AUDI R8 | 0 | 1,272 | 0.0000
206 AUDI | AUDI TT | 0 | 2,259 | 0.0000
207 BENTLEY MOTORS | MULSANNE | 0 | 233 | 0.0000
208 BUGATTI | VEYRON | 0 | 5 | 0.0000
209 LAMBORGHINI | AVENTADOR COUPE | 0 | 252 | 0.0000
210 LAMBORGHINI | GALLARDO | 0 | 285 | 0.0000
211 BYD | E6 | 0 | 11 | 0.0000
Theft rate per 1,000 vehicles produced = Total theft ÷ Total production × 1000 | 12,172 | 10,777,418 | 1.1294

Under authority delegated in 49 CFR part 1.95.

R. Ryan Posten
Associate Administrator for Rulemaking.

[FR Doc. 2014-27885 Filed 11-24-14; 8:45 am]

BILLING CODE 4910-59-P